DEPARTMENT OF COMMERCE

National Oceanic and Atmospheric Administration

RIN 0648-XG780

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet April 1, 2019 through April 9, 2019.

DATES: The meetings will be held April 1, 2019 through April 9, 2019. See SUPPLEMENTARY INFORMATION for specific dates and times.

ADDRESSES: The meeting will be held at the Anchorage Hilton Hotel, 500 W 3rd Ave, Anchorage, AK 99501.

Council address: North Pacific Fishery Management Council, 605 W 4th Ave., Suite 306, Anchorage, AK 99501-2252; telephone (907) 271-2809.

FOR FURTHER INFORMATION CONTACT: Diana Evans, Council staff; telephone: (907) 271-2809.

SUPPLEMENTARY INFORMATION: The Council will begin its plenary session at 8 a.m. in the Aleutian Room on Wednesday, April 3, 2019 continuing through Tuesday, April 9, 2019. The Council's Scientific and Statistical Committee (SSC) will begin at 8 a.m. in the King Salmon/Iliamna Room on Monday, April 1, 2019 and continue through Wednesday, April 3, 2019. The Council's Advisory Panel (AP) will begin at 8 a.m.in the Dillingham/Katmai Room on Tuesday, April 2, 2019 and continue through Saturday, April 6, 2019. The IFQ Committee will meet on Monday, April 1, 2019, from 8 a.m. to 5 p.m. (room TBD). The Ecosystem Committee will meet on Monday, April 1, 2019, from 9 a.m. to 5 p.m. (room TBD). The Fishery Monitoring Advisory Committee (FMAC) will meet on Tuesday, April 2, 2019 from 8 a.m. to 5 p.m. (room TBD). The Enforcement Committee will meet on Tuesday, April 2, 2019 from 1 p.m. to 5 p.m. (room TBD). The Cook Inlet Salmon Committee will meet on Tuesday, April 2, 2019 from 9 a.m. to 5 p.m. (room TBD).

Agenda

Monday, April 1, 2019 Through Tuesday, April 9, 2019

Council Plenary Session: The agenda for the Council's plenary session will include the following issues. The Council may take appropriate action on any of the issues identified.

(1) Executive Director's Report (including report on Northern Edge 2019, Alaska Ocean Acidification Network report, Council Coordination Committee update)

(2) NMFS Management Report (including GOA Chinook salmon bycatch status, decksorting update, and 2018 cost recovery)

(3) ADF&G Report

(4) NOAA GC Report

(5) NIOSH Report

(6) USCG Report

(7) USFWS Report (seabird bycatch)

(8) Habitat Report (including annual EFH consultation)

(9) Protected Species Report

(10) Fixed Gear CV Rockfish Retention—Final Action

(11) IFQ Medical Lease—Final Action

(12) Cooperative Reports—AFA, AM 80, GOA Rockfish, BSAI Crab

(13) CQE Fishup in 3A—Initial Review

(14) IFQ Eligibility Criteria—Discussion Paper

(15) Cook Inlet Salmon—Committee Report

(16) BSAI Halibut Abundance-Based Management PSC limits—Review Operating Model

(17) Sablefish Discards—Expanded Discussion Paper

(18) Observer Fee Analysis—Initial Review

(19) Observer partial coverage cost efficiencies—Report

(20) Bering Sea Snow Crab Bycatch—Initial Review

(21) Sculpins to ecosystem component—Discussion Paper

(22) Economic Data Reports—Discussion Paper

(23) Scallop SAFE—Final Specifications

(24) GOA Pollock, Cod seasons/allocations—Final Action

(25) Ecosystem Committee—Report

(26) Enforcement Committee—Report

(27) Bering Sea Fishery Ecosystem Plan—Action module workplans and report

(28) Whale depredations in the Sablefish fishery—Report

The Advisory Panel will address Council agenda items (12) through (28).

The SSC agenda will include the following issues:

(1) Cook Inlet Salmon—Review status determination criteria

(2) Review Economic SAFE—Action as necessary

(3) Marine Mammal Conservation Status—Action as necessary

(4) CQE Fishup in 3A—Initial Review

(5) BSAI Halibut Abundance-Based Management PSC limits—Review Operating Model

(6) Sablefish Discards—Expanded Discussion Paper

(7) Observer Fee Analysis—Initial Review

(8) Observer partial coverage cost efficiencies—Report

(9) Bering Sea Snow Crab Bycatch—Initial Review

(10) Sculpins to ecosystem component—Discussion Paper

(11) Economic Data Reports—Discussion Paper

(12) Scallop SAFE—Final Specifications

(13) Bering Sea Fishery Ecosystem Plan—Action module workplans and report

(14) Whale depredations in the Sablefish fishery—Report

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The Fishery Monitoring Advisory Committee will meet to discuss the Fee Analysis Initial Review document, partial coverage cost savings, and other business. The Enforcement Committee will discuss Sablefish discards and the progress on the trawl EM cooperative research plan, and other business. The Ecosystem Committee will discuss habitat issues, a report on the Alaska Ocean Acidification Network and other status updates, a workplan for upcoming items for committee consideration, and other business. The IFQ committee will review discussion papers on eligibility criteria, global examples, sablefish discards, fish up in 3A, prioritization of IFQ program tasks, and other business. The Cook Inlet Salmon Committee will finalize recommendations for the Council on the upcoming FMP amendment, and discuss other business.

The Agendas are subject to change, and the latest versions will be posted at http://www.npfmc.org/.

Public Comment

Public comment letters will be accepted and should be submitted either electronically at meetings.npfmc.org or through the mail: North Pacific Fishery Management Council, 605 W. 4th Ave., Suite 306, Anchorage, AK 99501-2252. Deadline for comments is March 29, 2019, at 12 p.m.

Special Accommodations

These meetings are physically accessible to people with disabilities. Requests for sign language interpretation or other auxiliary aids should be directed to Shannon Gleason at (907) 271-2809 at least 7 working days prior to the meeting date.

Dated: February 6, 2019.
Tracey L. Thompson,
Acting Deputy Director, Office of Sustainable Fisheries, National Marine Fisheries Service.

[FR Doc. 2019-01886 Filed 2-8-19; 8:45 am]

BILLING CODE 3510-22-P